Proclamation 10250 of September 3, 2021

Labor Day, 2021

By the President of the United States of America

A Proclamation

My father taught me from a young age that a job is about much more than a paycheck. It is about dignity, respect, and your place in the community. It is about being able to look your children in the eye and assure them that things are going to be okay. When Americans go to work each day, they are not just making a living—they are pursuing a life with hope for the future. In doing so, they build, drive, care for, and grow our Nation.

Hard-working Americans are the backbone of our country. As I have often said, the middle class built America—and unions built the middle class. Everything that supports a sustainable middle-class life was made possible by unions, and on Labor Day we honor all those workers—and their enduring movement—that keep our economy moving and make our Nation strong.

I believe that every worker deserves not only a fair wage and benefits—but freedom from discrimination, a safe and healthy workplace, and the respect that comes with a secure retirement as well. That is why my Administration always stands proudly with workers. It is why, in the American Rescue Plan, we gave working people a break—helping workers weather the pandemic, giving middle-class families raising children a historic tax cut, and upholding the promise of a dignified retirement by protecting the hard-earned pensions of millions of American workers and retirees. It is also why I am committed to ensuring that all workers have a free and fair opportunity to organize a union and bargain collectively with their employers. This has been a guiding principle of our Nation since union organizing was explicitly encouraged by the National Labor Relations Act in 1935. But for far too long, that principle has been attacked and neglected.

American workers should make their own decisions—free from coercion and intimidation—about organizing with their co-workers to have a stronger voice in their workplaces, their communities, and their government. That is why I strongly support the Protecting the Right to Organize Act and the Public Service Freedom to Negotiate Act. It is also why I created the Task Force on Worker Organizing and Empowerment, and asked Vice President Kamala Harris and Secretary of Labor Martin Walsh to serve as its chair and vice chair.

After more than a year in which essential workers made extraordinary sacrifices and carried our Nation on their backs, this Labor Day we see more clearly than ever that we must build an economy that responds to the needs and aspirations of working people—an economy that deals everyone in and brings everyone along. The pandemic has also exacerbated and revealed for all to see the places where our Nation has fallen short of its promise to deliver equal opportunity to workers of color and their communities. To help address that long-standing challenge, my Administration is pursuing a comprehensive approach to advancing equity, as illustrated in the Executive Order I signed on my first day in office entitled Advancing Racial Equity and Support for Underserved Communities.

Despite the tremendous progress we have made to advance labor protections and strengthen the voice of workers in the workplace, there is still much more we need to do. As in every generation since Labor Day was first celebrated in the late 19th century, there are still those who resist Americans' efforts to build and sustain worker power—the engine of our economic growth, the key to our long-term success, and the best defense against corporate abuses of power in workplaces, our economy, and our democracy. Over the years, the Labor Movement has won many battles: establishing the 40-hour work week, integrating workplaces, eliminating child labor, securing health and safety protections for workers, and countless other victories. Workers and their unions prevailed time and time again—but the work continues. We are going to keep fighting to restore power to working families and protect the rights of hard-working Americans and unions. That includes seizing the golden opportunity ahead of us to make the largest investment in nearly a century in American infrastructure, American workers, and good union jobs through the Bipartisan Infrastructure Investment and Jobs Act.

On this Labor Day, we honor the pioneers who stood up for the dignity of working people—leaders like César Chávez, the Reverend Dr. Martin Luther King, Jr., A. Phillip Randolph, John L. Lewis, Samuel Gompers, Frances Perkins, and many more. Let us also remember the tireless voices for working families that we have recently lost, including my friend Richard Trumka. We must recommit ourselves to advancing the historic progress these trailblazers made as we work to deliver a decent life with security, respect, and dignity for all.

NOW, THEREFORE, I, JOSEPH R. BIDEN JR., President of the United States of America, by virtue of the authority vested in me by the Constitution and the laws of the United States, do hereby proclaim September 6, 2021, as Labor Day. I call upon all public officials and people of the United States to observe this day with appropriate programs, ceremonies, and activities that honor the energy and innovation of working Americans.

IN WITNESS WHEREOF, I have hereunto set my hand this third day of September, in the year of our Lord two thousand twenty-one, and of the Independence of the United States of America the two hundred and forty-sixth.

[FR Doc. 2021-19576

Filed 9-8-21; 8:45 am]

Billing code 3295-F1-P